FEDERAL RESERVE SYSTEM

Sunshine Act Meeting

January 17, 2002.

Agency Holding the Meeting: Board of Governors of the Federal Reserve System

Time and Date: 10:00 a.m., Wednesday, January 23, 2002.

The business of the Board requires that this meeting be held with less than one week's advance notice to the public and no earlier announcement of the meeting was practicable.

Place: Marriner S. Eccles Federal Reserve Board Building, C Street entrance between 20th and 21st Streets, NW., Washington, DC 20551

Status: Open.

Matters to be Considered: 1. Proposed amendments to Regulation C (Home Mortgage Disclosure) based on a review of the regulation. (Proposed earlier for public comment; Docket No. R-1001).

2. Any items carried forward from a previously announced meeting.

Note: This meeting will be recorded for the benefit of those unable to attend. Cassettes will be available for listening in the Board's Freedom of Information Office, and copies may be ordered for $6 per cassette by calling (202) 452-3684 or by writing to: Freedom of Information Office, Board of Governors of the Federal Reserve System, Washington, D.C. 20551.

For more information please contact: Office of Public Affairs at 202-452-2955.

Supplementary Information: You may call 202-452-3206 for a recorded announcement of this meeting; or you may contact the Board's Web site at http://www.federalreserve.gov for an electronic announcement. (The Web site also includes procedural and other information about the open meeting.)

Dated: January 17, 2002.
Robert deV. Frierson,
Deputy Secretary of the Board.

[FR Doc. 02-1629 Filed 1-17-02; 2:24 pm]

BILLING CODE 6210-01-P